COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: April 27, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

7530-00-286-7286—Folder, File, Pressboard, ⅕ Cut Tab, Light Green, Letter

7530-00-286-6925—Folder, File, Paperboard, ⅕ Cut Tab, Light Green, Letter

7530-00-286-6926—Folder, File, Pressboard, ⅕ Cut Tab, Light Green, Legal

7530-00-286-6924—Folder, File, Pressboard, ⅓ Cut Tab, Light Green, Legal

7530-00-286-6923—Folder, File, Pressboard, ⅓ Cut Tab, Light Green, Legal

Authorized Source of Supply: Georgia Industries for the Blind, Bainbridge, GA

Contracting Activity: GSA/FAS ADMIN SVCS ACQUISITION BR(2, NEW YORK, NY

NSN(s)—Product Name(s):

1670-01-598-5071—Containerized Unitized Bulk Equipment (CUBE) Lifeliner, Fuel Kit

1670-01-598-5067—Containerized Unitized Bulk Equipment (CUBE) Lifeliner, Water Kit

Authorized Source of Supply: Peckham Vocational Industries, Inc., Lansing, MI

Contracting Activity: W6QK ACC-APG NATICK, NATICK, MA

Contracting Activity: DLA AVIATION, RICHMOND, VA

Service(s)

Service Type: Janitorial Service

Mandatory for: US Fish and Wildlife Service, National Eagle and Wildlife Property Repository and Law Enforcement Office, (except wildlife property storage area (warehouse)), Commerce City, CO

Authorized Source of Supply: Bayaud Enterprises, Inc., Denver, CO

Contracting Activity: U.S. FISH AND WILDLIFE SERVICE, US FISH AND WILDLIFE

Michael R. Jurkowski,
Director, Business Operations.

[FR Doc. 2025-05357 Filed 3-27-25; 8:45 am]

BILLING CODE 6353-01-P